DEPARTMENT OF THE INTERIOR

Bureau of Land Management

[OR-050-1020-PG: GP03-0237]

Notice of Public Meeting: Washington/Oregon Combined Resource Advisory Council Meeting for John Day/Snake, Southeast Oregon and Eastern Washington

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) John Day Snake, Southeast Oregon and Eastern Washington Resource Advisory Councils (RACs), will meet as indicated below.

DATES: The two-day public meeting will be held at the Kah-Nee-Ta High Desert Resort, 6823 Highway 8, Warm Springs, OR on Monday, September 22, 2003 from 12:30 p.m. to 4:30 p.m. and on Tuesday, September 23, 2003 from 8 a.m. to noon and 1 p.m to 4 p.m. On September 23, a public comment period will follow the meeting, starting at approximately 4 p.m. and ending at approximately 5:30 pm.

SUPPLEMENTARY INFORMATION: The three 15-member Councils advise the Secretary of the Interior, through the Bureau of Land Management, on a variety of planning and management issues associated with public land management in Oregon and Washington.

Meeting Topics May Include:

Rangeland Health Assessment—Wild Horses

Sustaining Working Landscapes Overview—Noxious Weeds

Recordable Disclaimers of Interest (Roads)

Meeting Procedures

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below

FOR FURTHER INFORMATION CONTACT: Virginia Gibbons at (541) 416-6700, Prineville Bureau of Land Management, 3050 NE Third Street, Prineville, OR, 97754.

Dated: July 21, 2003.
Alan Barron Bail,
District Manager.

[FR Doc. 03-19061 Filed 7-25-03; 8:45 am]

BILLING CODE 4310-33-P